DEPARTMENT OF HEALTH AND HUMAN SERVICES

Office of Inspector General

[Docket ID: OIG 909-N]

Privacy Act of 1974; System of Records

AGENCY: Office of Inspector General, HHS.

ACTION: Notice to delete three systems of records.

SUMMARY: The Office of Inspector General (OIG) is deleting from its existing inventory of record systems subject to the Privacy Act of 1974, (5 U.S.C. 552a), as amended.

DATES: This proposed action will be effective without further notice on January 27, 2011 unless comments are received which result in a contrary determination.

ADDRESSES: You may submit written comments by any of the following methods:

1. Federal Rulemaking Portal: http://www.regulations.gov. Follow the instructions for submitting comments.

2. Mail or Delivery: Office of Inspector General, Department of Health and Human Services, Attention: OIG 909-N, Room 5541, Cohen Building, 330 Independence Avenue, SW., Washington DC 20201.

Instructions: We do not accept comments by facsimile (FAX) transmission. All submissions received must include the agency name and docket number for this Federal Register document. The general policy for comment submissions from members of the public is to make these submissions available for public viewing on http://www.regulations.gov after receipt.

FOR FURTHER INFORMATION CONTACT: Patrice Drew, Regulatory Officer, (202) 619-1368.

SUPPLEMENTARY INFORMATION: In accordance with Privacy Act requirements, agencies are to publish their amended systems in the Federal Register when there is a revision, change, or addition. OIG is proposing to delete the following three systems of records (SORN):

1. SORN 09-90-0078

System name:

Supplementary Security Income (SSI)/Office of Personnel Management (OPM) Temporary Matching File, HHS/OS/OIG.

Purpose:

This system of records was maintained to facilitate the comparison of records to identify those Federal employees who may also be receiving SSI benefits concurrently with their Government salaries.

Reason for deletion:

This system of records was a temporary matching file in effect when the Social Security Administration (SSA) was still part of the Department, and when OIG was tasked with verifying that current employees were not also receiving disability payments. SSA has been a separate agency since 1995 and no system or files currently exist.

2. SORN 09-90-0079

System name:

Welfare Fraud Detection File, HHS/OS/OIG.

Purpose:

This system of records was established to facilitate the development of a fraud detection program for Aid to Families with Dependent Children to identify individuals who receiving welfare illegally through misrepresentation.

Reason for deletion:

This system of records references office locations that have not been valid for over 15 years and predate the creation of the separate Department of Education in 1980.

3. SORN 09-90-0102

System name:

Federal Personnel/HHS-Funded Benefit and Loan Program Temporary Matching File, HHS/OS/OIG.

Purpose:

This system of records was maintained to facilitate the comparison of records to identify those Federal employees, Federal retirees, or their survivors who also received assistance under an HHS or HHS-funded benefit or loan program. These records were used for reviewing eligibility and identifying debts owed under these programs.

Reason for deletion:

This system of records was a temporary matching file for fraud detection investigation several years ago. No current files or records of this type currently exist within OIG.

Accordingly, OIG proposes to delete the following systems of records:

System No. | Title | System Manager
09-90-0078 | SSI/POM Temporary Matching File | HHS/OS/OIG
09-90-0079 | Welfare Fraud Detection File | HHS/OS/OIG
09-90-0102 | Federal Personnel/HHS-Funded Benefit and Loan Program Temporary Matching File | HHS/OS/OIG

Dated: December 15, 2010.
Daniel R. Levinson,
Inspector General.

[FR Doc. 2010-32527 Filed 12-27-10; 8:45 am]

BILLING CODE 4152-01-P